DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permit.

SUMMARY: In accordance with the procedures governing the application for, and the processing of, special permits from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of special permits (e.g., to provide for additional hazardous materials, packaging design changes, additional mode of transportation, etc.) are described in footnotes to the application number. Application numbers with the suffix “M” denote a modification request. Their applications have been separated from the new application for special permits to facilitate processing.

DATES: Comments must be received on or before September 5, 2008.

Address Comments To: Record Center, Pipeline and Hazardous Materials Safety Administration, U.S. Department of Transportation, Washington, DC 20590

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington DC or at http://dms.dot.gov.

This notice of receipt of applications for modification of special permit is published in accordance with Part 107 of the Federal hazardous materials transportation law (49 U.S.C. 5117(b); 49 CFR 1.53(b)).

Issued in Washington, DC, on August 8, 2008.
Delmer F. Billings,
Director, Office of Hazardous Materials, Special Permits and Approvals.

Modification Special Permits
Application No. | Docket No. | Applicant | Regulation(s) affected | Nature of special permit thereof
11379-M |  | TRW Occupant Safety Systems, Washington, MI | 49 CFR 173.301(h), 173.302 | To modify the special permit to allow the transportation in commerce of an additional Division 1.4G and Division 2.2 material.
12155-M |  | S&C Electric Company, Chicago, IL | 49 CFR 172.301(c); 173.304 | To modify the special permit to remove the placarding requirement when transporting by motor vehicle.
14576-M |  | Structural Composites Industries (SCI), Pomona, CA | 49 CFR 173.302a and 173.304a | To modify the special permit to authorize an increase in the maximum water volume from 300 liters to 315 liters.
14694-M | PHMSA-08-0113 | Department of Defense, Scott AFB, IL | 49 CFR 173.62 | To reissue the special permit originally issued on an emergency basis for the transportation in commerce of certain equipment contaminated with explosives in non-DOT specification packaging.

[FR Doc. E8-19249 Filed 8-20-08; 8:45 am]

BILLING CODE 4909-60-M